NUCLEAR REGULATORY COMMISSION

[NRC-2018-0001]

Sunshine Act Meetings

TIME AND DATE: Weeks of November 12, 19, 26, December 3, 10, 17, 2018.

PLACE: Commissioners' Conference Room, 11555 Rockville Pike, Rockville, Maryland.

STATUS: Public and Closed.

MATTERS TO BE CONSIDERED:

Week of November 12, 2018

There are no meetings scheduled for the week of November 12, 2018.

Week of November 19, 2018—Tentative

There are no meetings scheduled for the week of November 19, 2018.

Week of November 26, 2018—Tentative

Thursday, November 29, 2018

9:45 a.m. Affirmation Session (Public Meeting) (Tentative)

Motion to Quash Office of Investigations Subpoena Filed by Reed College (Tentative)

Thursday, November 29, 2018

10:00 a.m. Briefing on Security Issues (Closed Ex. 1)

Week of December 3, 2018—Tentative

Monday, December 3, 2018

10:00 a.m. Briefing on Equal Employment Opportunity, Affirmative Employment, and Small Business (Public)

(Contact: Larniece McKoy Moore: 301-415-1942)

This meeting will be webcast live at the Web address— http://www.nrc.gov/.

Thursday, December 6, 2018

10:00 a.m.

Meeting with Advisory Committee on Reactor Safeguards (Public)

(Contact: Mark Banks: 301-415-3718)

This meeting will be webcast live at the Web address— http://www.nrc.gov/.

Week of December 10, 2018—Tentative

There are no meetings scheduled for the week of December 10, 2018.

Week of December 17, 2018—Tentative

There are no meetings scheduled for the week of December 17, 2018.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings, or need this meeting notice or the transcript or other information from the public meetings in another format (e.g., braille, large print), please notify Kimberly Meyer-Chambers, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or you may email Patricia.Jimenez@nrc.gov or Wendy.Moore@nrc.gov.

Dated at Rockville, Maryland, this 9th day of November, 2018.
For the Nuclear Regulatory Commission.
Denise L. McGovern,
Policy Coordinator, Office of the Secretary.

[FR Doc. 2018-24948 Filed 11-9-18; 4:15 pm]

BILLING CODE 7590-01-P